DEPARTMENT OF EDUCATION

National Mathematics Advisory Panel

AGENCY: U.S. Department of Education, National Mathematics Advisory Panel.

ACTION: Notice of open meeting & public hearing.

SUMMARY: This notice sets forth the schedule and proposed agenda of an upcoming meeting, including a public hearing, with members of the National Mathematics Advisory Panel. The notice also describes the functions of the Panel. Notice of this meeting is required by section 10(a)(2) of the Federal Advisory Committee Act and is intended to notify the public of their opportunity to attend.

DATES: Tuesday, October 23 and Wednesday, October 24, 2007.

Times: Tuesday, October 23, 3 p.m.-6 p.m. and Wednesday, October 24, 8:15 a.m.-12:30 p.m.

ADDRESSES: Arizona State University, Memorial Union Alumni Lounge (Room 202), University Drive and Mill Avenue, Tempe, AZ 85287-0112.

FOR FURTHER INFORMATION CONTACT: Tyrrell Flawn, Executive Director, National Mathematics Advisory Panel, 400 Maryland Avenue, SW., Washington, DC 20202; telephone: (202) 260-8354.

Individuals who use a telecommunications device for the deaf (TDD) may call the Federal Information Relay Service (FRS) at 1-800-877-8339.

SUPPLEMENTARY INFORMATION: The Panel was established by Executive Order 13398. The purpose of this Panel is to foster greater knowledge of and improved performance in mathematics among American students, in order to keep America competitive, support American talent and creativity, encourage innovation throughout the American economy, and help State, local, territorial, and tribal governments give the nation's children and youth the education they need to succeed.

The meeting will be held at Arizona State University in Tempe, AZ. The meeting begins on Tuesday, October 23 at 3 p.m. From 3 p.m. to 4 p.m. the Panel will receive public comment on the Executive Order and the Panel's work. From 4:15 p.m. to 6 p.m. the Panel will discuss the structure and key messages of the Final Report. On Wednesday, October 24, the meeting begins at 8:15 a.m. with introductory remarks by Dr. Larry Faulkner, Chair of the National Mathematics Advisory Panel, and Dr. Michael M. Crow, President of Arizona State University. From 8:30 a.m. to 12:30 p.m., the Panel will continue its discussion of the structure and key messages of the Final Report. Individuals interested in attending the meeting are advised to register in advance to ensure space availability. Please contact Jennifer Graban at Jennifer.Graban@ed.gov by Monday, October 15, 2007.

If you are interested in giving testimony during the public comment session on October 23, please contact Jennifer Graban at Jennifer.Graban@ed.gov by Monday, October 15, 2007, to reserve time on the agenda. Presenters are encouraged to address one or more of the topics covered in the Executive Order. (Please refer to the Web site at http://www.ed.gov/mathpanel for more information on the elements of the Executive Order.) Please include your name, the organization you represent, and a brief description of the issue you would like to present. Presenters will be allowed three to five minutes to make their comments. Presenters are requested to submit three written copies and an electronic file (CD or diskette) of their comments at the meeting, which should be labeled with their name and contact information. Individuals solely interested in attending the meeting are advised to register in advance to ensure space availability.

Given the expected number of individuals interested in providing comments at the meeting, reservations for presenting comments should be made as soon as possible. Reservations will be processed on a first-come, first-served basis. Persons who are unable to obtain reservations to speak during the meeting are encouraged to submit written comments. Written comments will be accepted at the meeting site or via e-mail at NationalMathPanel@ed.gov. If you will be e-mailing written comments, please do so by Monday, October 15, 2007. Please note that comments submitted to the National Mathematics Advisory Panel in any format—through e-mail, the U.S. postal service and/or in person during the public comment sessions at meetings—are considered to be part of the public record of the Panel's deliberations, and will be posted on the Web site.

The Panel has submitted its Preliminary Report to the President, through the U.S. Secretary of Education. The Preliminary Report is available at http://www.ed.gov/mathpanel. The Final Report will be submitted not later than February 28, 2008, and will, at a minimum, contain recommendations on improving mathematics education based on the best available scientific evidence.

The meeting site is accessible to individuals with disabilities. Individuals who will need accommodations in order to attend the meeting, such as interpreting services, assistive listening devices, or materials in alternative format, should notify Jennifer Graban at Jennifer.Graban@ed.gov no later than Monday, October 15, 2007. We will attempt to meet requests for accommodations after this date, but cannot guarantee their availability.

Records are kept of all Panel proceedings and are available for public inspection at the staff office for the Panel, from the hours of 9 a.m. to 5 p.m., Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: October 4, 2007.
Margaret Spellings,
Secretary, U.S. Department of Education.

[FR Doc. E7-19990 Filed 10-10-07; 8:45 am]

BILLING CODE 4000-01-P